DEPARTMENT OF HEALTH AND HUMAN SERVICES

Meeting of the Presidential Advisory Council on HIV/AIDS

AGENCY: Department of Health and Human Services, Office of the Secretary, Office of the Assistant Secretary for Health.

ACTION: Notice.

SUMMARY: As stipulated by the Federal Advisory Committee Act, the U.S. Department of Health and Human Service is hereby giving notice that the Presidential Advisory Council on HIV/AIDS (PACHA) will be holding a meeting to continue discussions and possibly develop recommendations regarding People Living with HIV/AIDS. PACHA will hold a joint session with the Centers for Disease Control and Prevention/Health Resources and Services Administration Advisory Committee on HIV, Viral Hepatitis and STD Prevention and Treatment. This will be the first time these advisory committees have had a joint meeting. During this session, members will discuss next steps regarding National HIV/AIDS Strategy goals. On the second day of the meeting, PACHA will hear from key expert speakers regarding the Hepatitis C virus and barriers to care. The meeting will be open to the public.

DATES: The meeting will be held on May 21, 2015, from 9:00 a.m. to approximately 5:00 p.m. (ET) and May 22, 2015, from 9:00 a.m. to approximately 12:30 p.m. (ET).

ADDRESSES: On May 21, the meeting will be held at the W Downtown Hotel located at 45 Ivan Allen Jr Blvd., Atlanta, GA 30308. On May 22, the meeting will be held at the Satcher Health Leadership Institute at the Morehouse School of Medicine located at 720 Westview Drive, Atlanta, GA, 30310.

FOR FURTHER INFORMATION CONTACT: Ms. Caroline Talev, Public Health Analyst, Presidential Advisory Council on HIV/AIDS, U.S. Department of Health and Human Services, 200 Independence Avenue SW., Room 443H, Washington, DC 20201; (202) 205-1178. More detailed information about PACHA can be obtained by accessing the PACHA Web page on the AIDS.Gov Web site at www.aids.gov/pacha.

SUPPLEMENTARY INFORMATION: PACHA was established by E. O. 12963, dated June 14, 1995 as amended by E. O. 13009, dated June 14, 1996. The Council was established to provide advice, information, and recommendations to the Secretary regarding programs and policies to promote effective prevention and cure of HIV disease and AIDS. The functions of the Council are solely advisory in nature.

The Council consists of not more than 25 members. Council members are selected from prominent community leaders with particular expertise in, or knowledge of, matters concerning HIV and AIDS, public health, global health, philanthropy, marketing or business, as well as other national leaders held in high esteem from other sectors of society. Council members are appointed by the Secretary or designee, in consultation with the White House Office on National AIDS Policy. The agenda for the upcoming meeting will be posted on the AIDS.gov Web site at www.aids.gov/pacha.

Public attendance at the meeting is limited to space available. Individuals who plan to attend and need special assistance, such as sign language interpretation or other reasonable accommodations, should notify Caroline Talev at caroline.talev@hhs.gov. Due to space constraints, pre-registration for public attendance is advisable and can be accomplished by contacting Caroline Talev at caroline.talev@hhs.gov by close of business on May 13, 2015. Members of the public will have the opportunity to provide comments at the meeting on May 21, 2015. Any individual who wishes to participate in the public comment session must register with Caroline Talev at caroline.talev@hhs.gov by close of business on May 13, 2015; registration for public comment will not be accepted by telephone. Individuals are encouraged to provide a written statement of any public comment(s) for accurate minute taking purposes. Public comment will be limited to two minutes per speaker. Any members of the public who wish to have printed material distributed to PACHA members at the meeting are asked to submit, at a minimum, 1 copy of the material(s) to Caroline Talev, no later than close of business on May 13, 2015.

Dated: April 16, 2015.
B. Kaye Hayes,
Executive Director, Presidential Advisory Council on HIV/AIDS.

[FR Doc. 2015-09823 Filed 4-27-15; 8:45 am]

BILLING CODE 4150-43-P